NUCLEAR REGULATORY COMMISSION

[NRC-2010-0033]

Office of New Reactors; Interim Staff Guidance on the Review of Nuclear Power Plant Designs Using a Gas Turbine Driven Standby Emergency Alternating Current Power System

AGENCY: Nuclear Regulatory Commission (NRC).

ACTION: Solicitation of public comment.

SUMMARY: The NRC staff is soliciting public comment on its proposed Interim Staff Guidance (ISG) DC/COL-ISG-021 titled “Interim Staff Guidance on the Review of Nuclear Power Plant Designs Using a Gas Turbine Driven Standby Emergency Alternating Current Power System,” (Agencywide Documents Access and Management System (ADAMS) Accession No. ML092640035). This ISG provides new guidance information for applicants submitting a combined license (COL) or design certification (DC) for construction and operation of new reactors submitted under Title 10 of the Code of Federal Regulations, Part 52. In addition, it supplements the guidance provided to the NRC staff in other sections of NUREG-0800, “Standard Review Plan for the Review of Safety Analysis Reports for Nuclear Power Plants,” March 2007, Standard Review Plan (SRP), Section 8.3.1 and Sections 9.5.4 through 9.5.8. The NRC staff issues DC/COL-ISGs to facilitate timely implementation of current staff guidance and to facilitate activities associated with review of applications for DCs and COLs by the Office of New Reactors (NRO). The NRC staff intends to incorporate the final approved DC/COL-ISG-021 into the next revision of SRP Section 8.3.1 and Sections 9.5.4 through 9.5.8 and Regulatory Guide 1.206, “Combined License Applications for Nuclear Power Plants (LWR Edition),” June 2007.

Background: Emergency diesel generators are widely used as the standby emergency power sources for the onsite alternating current (AC) power system. It is anticipated that new reactor designs will incorporate gas turbines to supply the standby emergency alternating current power system. This ISG document provides guidance on the implementation of emergency gas turbine generators (EGTGs) used as AC power sources to supply power to safety-related equipment or equipment important to safety for all operational events and during accident conditions. Only EGTG systems that are air cooled and diesel oil fueled are considered in this interim guidance.

DATES: Comments must be filed no later than 30 days from the date of publication of this notice in the Federal Register. Comments received after this date will be considered, if it is practical to do so, but the Commission is able to ensure consideration only for comments received on or before this date.

ADDRESSES: You may submit comments by any one of the following methods. Please include Docket ID NRC-2010-0033 in the subject line of your comments. Comments submitted in writing or in electronic form will be posted on the NRC website and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2010-0033. Address questions about NRC dockets to Carol Gallagher 301-492-3668; e-mail Carol.Gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at (301) 492-3446.

You can access publicly available documents related to this notice using the following methods:

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov.

Federal Rulemaking Web site: Public comments and supporting materials related to this notice can be found at http://www.regulations.gov by searching on Docket ID: NRC-2010-0033.

FOR FURTHER INFORMATION CONTACT: Mr. John P. Segala, Chief, Balance of Plant Branch 1, Division of Safety Systems and Risk Assessment, Office of New Reactors, U.S. Nuclear Regulatory Commission, Washington, DC 20555-0001; telephone at 301-415-1992 or e-mail john.segala@nrc.gov.

SUPPLEMENTARY INFORMATION: The agency posts its issued staff guidance in the agency external Web page (http://www.nrc.gov/reading-rm/doc-collections/isg/), ADAMS Accession No. ML092640035.

The NRC staff is issuing this notice to solicit public comments on the proposed DC/COL-ISG-021. After the NRC staff considers any public comments, it will make a determination regarding the proposed DC/COL-ISG-021.

Dated at Rockville, Maryland, this 26th day of January 2010.
For the Nuclear Regulatory Commission.
William F. Burton,
Branch Chief, Rulemaking and Guidance Development Branch, Division of New Reactor Licensing, Office of New Reactors.

[FR Doc. 2010-2287 Filed 2-2-10; 8:45 am]

BILLING CODE 7590-01-P